DEPARTMENT OF COMMERCE

Foreign-Trade Zones Board

[B-25-2015]

Foreign-Trade Zone 122—Corpus Christi, TX; Authorization of Production Activity; M & G Resins, LLC (Polyethylene Terephthalate and Terephthalic Acid); Corpus Christi, TX

On April 17, 2015, the Port of Corpus Christi Authority, grantee of FTZ 122, submitted a notification of proposed production activity to the Foreign-Trade Zones (FTZ) Board on behalf of M & G Resins, LLC, within Subzone 122S, in Corpus Christi, Texas.

The notification was processed in accordance with the regulations of the FTZ Board (15 CFR part 400), including notice in the Federal Register inviting public comment (80 FR 24231-24232, 4-30-2015). The FTZ Board has determined that no further review of the activity is warranted at this time. The production activity described in the notification is authorized, subject to the FTZ Act and the Board's regulations, including Section 400.14.

Dated: August 17, 2015.
Andrew McGilvray,
Executive Secretary.

[FR Doc. 2015-20602 Filed 8-19-15; 8:45 am]

BILLING CODE 3510-DS-P